Proclamation 10953 of June 13, 2025

Father's Day, 2025

By the President of the United States of America

A Proclamation

America's fathers are the custodians of our strength, the leaders of our families, and the protectors of our security and safety. This Father's Day, my Administration pays tribute to every father whose fierce love, heroic devotion, and inspiring example are molding the next generation.

Whether by birth, adoption, or father figures, America's dads help shape the character and future of our Nation. Through their example, they instill strength, integrity, and perseverance in their children. They rise early, work late, make sacrifices, and remain steadfast in their love and commitment to their families. Fathers lead through action, speak with purpose, and impart wisdom honed by experience. From their children's earliest days as infants through their journey into adulthood, fathers leave a lasting influence that reaches far beyond the walls of their homes.

The presence of a father also serves to plant the seeds of virtue and instill American values in their children. For many, dads are the first to teach the value of hard work, love of country, and the importance of living with conviction. With every generation, these lessons are carried forth.

As President, I am fighting every day for America's fathers and families—preserving the Child Tax Credit, expanding school choice, and restoring the fundamental rights of parents to raise their children free from Government interference. I will always stand with our dads in shielding children from the toxic lies of gender ideology, and I will never stop working to keep our neighborhoods safe by backing our law enforcement, crushing violent crime, and ensuring our southern border remains sealed and secure. Together, we are building a Nation where fathers can lead with strength, protect their families, and pass on the timeless values that make America great.

Today, we celebrate the invaluable role our fathers play in shaping our families, guiding our communities, and strengthening our country—and we offer our unending thanks for their leadership, selflessness, and inspiration.

NOW, THEREFORE, I, DONALD J. TRUMP, President of the United States of America, in accordance with a joint resolution of the Congress approved April 24, 1972, as amended (36 U.S.C. 109), do hereby proclaim June 15, 2025, as Father's Day. I call on United States Government officials to display the flag of the United States on all Government buildings on Father's Day and invite State and local governments and the people of the United States to observe Father's Day with appropriate ceremonies.

IN WITNESS WHEREOF, I have hereunto set my hand this thirteenth day of June, in the year of our Lord two thousand twenty-five, and of the Independence of the United States of America the two hundred and forty-ninth.

[FR Doc. 2025-11363

Filed 6-17-25; 11:15 am]

Billing code 3395-F4-P